DEPARTMENT OF EDUCATION

National Assessment Governing Board

Virtual Meetings

AGENCY: National Assessment Governing Board, U.S. Department of Education.

ACTION: Notice.

SUMMARY: The National Assessment Governing Board (hereafter referred to as Governing Board) announces two meetings that will be conducted via videoconference. The first videoconference will be held by the Governing Board's Executive Committee on May 14, 2020 and will be closed to the public. The second videoconference will be a meeting of the full Board scheduled on May 15, 2020. This meeting will be open to the public, with visual and audio access. This notice sets forth the agenda for the two meetings and meeting participation guidelines. Notice of the full Board meeting is required under § 10(a)(2) of the Federal Advisory Committee Act (FACA). This notice is published less than 15 days prior to the meetings due to scheduling delays resulting from the pandemic. The COVID-19 impact has required a change in rescheduling the meeting from an in-person meeting to a virtual meeting.

DATES: May 14, 2020 Executive Committee Meeting: Closed Session from 3:15 p.m. to 4:30 p.m. Eastern Time (ET).

May 15, 2020 Governing Board Meeting: Open Meeting from 11:00 a.m. to 2:45 p.m. (ET).

ADDRESSES: Virtual Meetings.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION: Statutory Authority and Function: The Governing Board is established under the National Assessment of Educational Progress Authorization Act, Title III of Public Law 107-279. The Governing Board is established to formulate policy for NAEP, which is administered by the National Center for Education Statistics (NCES). The Governing Board's responsibilities include the following: selecting subject areas to be assessed, developing assessment frameworks and specifications, developing appropriate student achievement levels for each grade and subject tested, developing standards and procedures for state and national comparisons, improving the form and use of NAEP, developing guidelines for reporting and disseminating results, and releasing initial NAEP results to the public. Governing Board members serve 4-year terms, subject to renewal for another 4 years, at the discretion of the Secretary of Education.

Meeting Agenda

On Thursday, May 14, 2020, the Governing Board's Executive Committee will convene via videoconference in closed session to discuss independent cost estimates related to the impact of the COVID-19 pandemic on NAEP operations and subsequent potential impacts on the NAEP budget and NAEP assessment schedule. The Executive Committee will also receive a briefing from Peggy Carr, Associate Commissioner, NCES, on cost implications which will involve reviewing the government's independent cost estimates for possibly revising the national assessment activities. These discussions may impact current and future NAEP contracts and budgets and must be kept confidential. Public disclosure of this confidential information would significantly impede implementation of the NAEP assessment program if conducted in open session. Such matters are protected by exemption 9(B) of § 552b(c) of Title 5 of the United States Code.

On Friday, May 15, 2020, the Governing Board will convene for an open video conference meeting from 11:00 a.m. to 2:45 p.m. ET. The meeting will begin with Governing Board Chair Haley Barbour's review of the May 15, 2020 quarterly Board meeting agenda, approval of the May meeting agenda, and approval of minutes from the March 5-7, 2020 quarterly meeting. The Governing Board will then discuss and take action on a delegation of authority to the Assessment Development Committee to review and approve the 2025 NAEP Mathematics Item Specifications.

From 11:15 a.m. to 12:30 p.m. ET Peggy Carr, Associate Commissioner, NCES, and Lesley Muldoon, Governing Board Executive Director, will provide a briefing on potential policy implications as a result of the impacts of COVID-19 on NAEP, followed by Governing Board discussion. The Governing Board will recess from 12:30 p.m. to 1:00 p.m. ET.

The meeting will reconvene at 1:00 p.m. ET. Chair Haley Barbour will facilitate discussion on the Board's Strategic Vision 2025. Updates will be provided by four Governing Board member group leaders on work performed to date. This session will end at 2:30 p.m. ET. The Chair then will provide closing remarks and highlight next steps in the Governing Board's Strategic Vision work. The meeting will adjourn at 2:45 p.m. ET.

Public Participation: The May 15, 2020 meeting of the Governing Board is open to the public through advance registration. Public participation is available for the videoconference with view access, along with an audio option for listening. The Governing Board is empowered to conduct the videoconference in a manner that will facilitate the orderly conduct of business and accomplish meeting objectives in a timely manner. A link to the registration page will be posted on the Governing Board' website https://www.nagb.gov on May 1, 2020. Members of the public who need additional information on the meeting may contact Munira Mwalimu at the address or telephone number listed above.

Access to Records of the Meeting: Pursuant to FACA requirements, the public may inspect the meeting materials for the May 15, 2020 teleconference on the Governing Board's website at https://www.nagb.gov three business days prior to May 15, 2020.

Reasonable Accommodations: The NAGB website is accessible to individuals with disabilities. If you will need an auxiliary aid or service to participate in the meeting (e.g., interpreting service, assistive listening device, or materials in an alternate format), please notify the contact person listed in this notice no later than May 4, 2020. Written comments related to the work of the Governing Board may be submitted electronically or in hard copy to the attention of the Executive Officer/Designated Federal Official (see contact information noted above). Information on the Governing Board and its work can be found at www.nagb.gov.

Electronic Access to this Document: The official version of this document is the document published in the Federal Register. Internet access to the official edition of the Federal Register and the Code of Federal Regulations is available via the Federal Digital System at: www.gpo.gov/fdsys. This site allows the public to view this document, as well as all other documents of this Department published in the Federal Register, in text or Adobe Portable Document Format (PDF). To use PDF, you must have Adobe Acrobat Reader, which is available free at the Adobe website. You may also access documents of the Department published in the Federal Register by using the article search feature at: www.federalregister.gov. Specifically, the advanced search feature at this site allow searches to documents published by the Department.

Authority: Pub. L. 107-279, Title III—National Assessment of Educational Progress § 301.

Lesley Muldoon,
Executive Director, National Assessment Governing Board (NAGB), U.S. Department of Education.

[FR Doc. 2020-09718 Filed 5-6-20; 8:45 am]

BILLING CODE P